SOCIAL SECURITY ADMINISTRATION

Agency Information Collection Activities: Proposed Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or e-mailed to the individuals at the addresses and fax numbers listed below:

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Request for Hearing by Administrative Law Judge—20 CFR 404.929, 404.933, 416.1429, 404.1433, 405.722, 418.1350—0960-0269. The information collected on Form HA-501-U5 is used by SSA to document and initiate the Administrative Law Judge (ALJ) hearing process for determining eligibility or entitlement to Social Security benefits (Title II), Supplemental Security Income payments (Title XVI), Special Veterans Benefits (Title VIII), Medicare (Title XVIII). This information will also be used to request appeal of initial determinations regarding Medicare Part B income-related premium subsidy reductions. The methods for filing a request for an ALJ hearing are being expanded to include the Internet. If an individual receives a notice of denial of his/her disability claim and the notice provides rights to an ALJ hearing, he/she will have the option of filing for the ALJ hearing over the Internet. The individual will complete the appropriate appeal screens and submit the appeal to SSA for processing. The respondents are individuals requesting an ALJ hearing.

Type of Request: Revision of an OMB-approved information collection.

Number of Respondents: 669,469.

Estimated Annual Burden: 178,525 hours.

Collection method | Number of respondents | Frequency of response | Estimated completion time | Total burden hours
Paper & Modernized Claims System | 334,735 | 1 | 10 minutes | 55,789
i501 | 334,734 | 1 | 22 minutes | 122,736
Totals: | 669,469 |  |  | 178,525

2. Request for Reconsideration—20 CFR 404.907-404.921, 416.1407-416.1421, 408.1009—0960-0622. The information collected on Form SSA-561-U2 is used by SSA to document and initiate the reconsideration process for determining eligibility or entitlement to Social Security benefits (Title II), Supplemental Security Income payments (Title XVI), Special Veterans Benefits (Title VIII), Medicare (Title XVIII). This information will also be used to request appeal of initial determinations regarding Medicare Part B income-related premium subsidy reductions. The methods for filing a request for reconsideration are being expanded to include the Internet. If an individual receives a notice of denial of his/her disability claim and the notice provides the right to reconsideration, he/she will have the option of filing for the reconsideration over the Internet. The individual will complete the appropriate appeal screens and submit the appeal to SSA for processing. The respondents are individuals filing for reconsideration.

Type of Request: Revision of an OMB-approved information collection.

Number of Respondents: 1,461,700.

Estimated Annual Burden: 341,064 hours.

Collection method | Number of respondents | Frequency of response | Estimated completion time | Total burden hours
Paper & Modernized Claims System | 730,850 | 1 | 8 min | 97,447
i561 | 730,850 | 1 | 20 min | 243,617
Totals: | 1,461,700 |  |  | 341,064

Dated: April 5, 2007.
Elizabeth A. Davidson,
Reports Clearance Officer, Social Security Administration.

[FR Doc. E7-6754 Filed 4-9-07; 8:45 am]

BILLING CODE 4191-02-P